DEPARTMENT OF TRANSPORTATION

National Highway Traffic Safety Administration

[Docket No. NHTSA-2006-24323; Notice 1]

Volkswagen of America Inc., Receipt of Petition for Decision of Inconsequential Noncompliance

Volkswagen of America Inc. (Volkswagen) has determined that the designated seating capacity placards on certain vehicles that it produced in 2005 and 2006 do not comply with S4.3(b) of 49 CFR 571.110, Federal Motor Vehicle Safety Standard (FMVSS) No. 110, “Tire selection and rims.” Volkswagen has filed an appropriate report pursuant to 49 CFR part 573, “Defect and Noncompliance Reports.”

Pursuant to 49 U.S.C. 30118(d) and 30120(h), Volkswagen has petitioned for an exemption from the notification and remedy requirements of 49 U.S.C. Chapter 301 on the basis that this noncompliance is inconsequential to motor vehicle safety.

This notice of receipt of Volkswagen's petition is published under 49 U.S.C. 30118 and 30120 and does not represent any agency decision or other exercise of judgment concerning the merits of the petition.

Affected are a total of approximately 39 Phaeton vehicles produced between May 22, 2005 and March 8, 2006. S4.3(b) of FMVSS No. 110 requires that a “placard, permanently affixed to the glove compartment door or an equally accessible location, shall display the * * * [d]esignated seating capacity.” The noncompliant vehicles have placards stating that the seating capacity is five when in fact the seating capacity is four. Volkswagen has corrected the problem that caused these errors so that they will not be repeated in future production.

Volkswagen believes that the noncompliance is inconsequential to motor vehicle safety and that no corrective action is warranted. Volkswagen states that consumers will look at the number of seats and safety belts to determine the vehicle's capacity. Volkswagen explains that although the rear seat capacity on the placard states three, the vehicles have only two rear seats, and the space that would be occupied by a middle-occupant position contains a center console.

Volkswagen further states that, because the rear seats do not accommodate three people, the seating capacity labeling error has no impact on the vehicle capacity weight, recommended cold tire inflation pressure, or recommended size designation information. Also, Volkswagen says that it is impossible to overload the rear seat by relying on the incorrect designated seating capacity information.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: May 8, 2006.

Authority: (49 U.S.C. 30118, 30120: Delegations of authority at CFR 1.50 and 501.8).

Issued on: April 4, 2006.
Daniel C. Smith,
Associate Administrator for Enforcement.

[FR Doc. E6-5122 Filed 4-6-06; 8:45 am]

BILLING CODE 4910-59-P